DEPARTMENT OF ENERGY

Federal Energy Regulatory Commission

[Docket No. CP08-77-000]

Texas Gas Transmission, LLC; Notice of Request Under Blanket Authorization

March 6, 2008.

Take notice that on February 21, 2008, Texas Gas Transmission, LLC (Texas Gas), 3800 Frederica Street, Owensboro, Kentucky 42301, filed in Docket No. CP08-77-000, a prior notice request pursuant to sections 157.205, 157.208, and 157.210 of the Federal Energy Regulatory Commission's regulations under the Natural Gas Act for authorization to construct, own, and operate approximately 9.37 miles of 8-inch diameter pipeline lateral, located in Kentucky and Indiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Texas Gas proposes to construct approximately 9.37 miles of 8-inch diameter pipeline lateral, the Henderson-Dogtown 8-Inch Line Project, associated metering facilities, and ancillary auxiliary facilities, including two 6-inch side valves, over-pressure protection, an 8-inch pig launcher, an 8-inch pig receiver, a single 6-inch ultrasonic delivery meter station, flow control, communication tower, and associated buildings, commencing at Texas Gas' Slaughters-Montezuma System, located in Henderson County, Kentucky, and ending at a proposed interconnection with Southern Indiana Gas and Electric Company, d/b/a Vectren Energy Delivery of Indiana, Inc. (SIGECO), located in Vanderburgh County, Indiana. Texas Gas estimates the cost of construction to be $12,230,000. Texas Gas states that the proposed facilities are designed to deliver 36 MMcf/d to the new interconnection point with SIGECO.

Any questions regarding the application should be directed to Kathy D. Fort, Manager of Certificates and Tariffs, Texas Gas Transmission, LLC, 3800 Frederica Street, Owensboro, Kentucky 42301, call (270) 688-6825, fax (270) 688-5871, or e-mail katht.fort@bwpmlp.com.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the Internet in lieu of paper. See 18 CFR 385.2001(a) (1) (iii) and the instructions on the Commission's Web site (http://www.ferc.gov) under the “e-Filing” link.

Kimberly D. Bose,
Secretary.

[FR Doc. E8-5025 Filed 3-12-08; 8:45 am]

BILLING CODE 6717-01-P